FEDERAL COMMUNICATIONS COMMISSION

47 CFR Part 73

[MB Docket No. 05-162; Report No. 2954]

Petition for Reconsideration of Action in Rulemaking Proceeding

AGENCY: Federal Communications Commission.

ACTION: Petition for reconsideration.

SUMMARY: In this document, a Petition for Reconsideration (Petition) has been filed in the Commission's Rulemaking proceeding by Robert J. Buenzle, on behalf of Roy E. Henderson.

DATES: Oppositions to the Petition must be filed on or before October 2, 2014. Replies to an opposition must be filed on or before October 14, 2014.

ADDRESSES: Federal Communications Commission, 445 12th Street SW., Washington, DC 20554.

FOR FURTHER INFORMATION CONTACT: Andrew J. Rhodes, Media Bureau, (202) 418-2700, email: Andrew.Rhodes@fcc.gov.

SUPPLEMENTARY INFORMATION: This is a summary of Commission's document, Report No. 2954, released June 12, 2012. The full text of Report No. 2954 is available for viewing and copying in Room CY-B402, 445 12th Street SW., Washington, DC or may be purchased from the Commission's copy contractor, Best Copy and Printing, Inc. (BCPI) (1-800-378-3160). The Commission will not send a copy of this document pursuant to the Congressional Review Act, 5 U.S.C. 801(a)(1)(A), because this document does not have an impact on any rules of particular applicability.

Subjects: In the Matter of Amendment of Section 73.202(b), Table of Allotments, FM Broadcast Stations, (Enfield, New Hampshire; Hartford and White River Junction, Vermont; and Keeseville and Morrisonville, New York), published at 76 FR 9249, February 17, 2011, in MB Docket No. 05-162, and published pursuant to 47 CFR 1.429(e). See also § 1.4(b)(1) of the Commission's rules.

Number of Petitions Filed: 1.

Federal Communications Commission.
Marlene H. Dortch,
Secretary, Office of the Secretary, Office of Managing Director.

[FR Doc. 2014-22167 Filed 9-16-14; 8:45 am]

BILLING CODE 6712-01-P